DEPARTMENT OF ENERGY

Federal Energy Regulatory Commission

Combined Notice of Filings

Take notice that the Commission has received the following Natural Gas Pipeline Rate and Refund Report filings:

Filings Instituting Proceedings

Docket Numbers: RP14-420-000.

Applicants: Transcontinental Gas Pipe Line Company,

Description: Negotiated Rates—Cherokee AGL—Replacement Shippers—Feb 2014 to be effective 2/1/2014.

Filed Date: 1/31/14.

Accession Number: 20140131-5062.

Comments Due: 5 p.m. ET 2/12/14.

Docket Numbers: RP14-421-000.

Applicants: Texas Gas Transmission, LLC.

Description: Neg Rate Agmt Filing (AEP 33577) to be effective 2/1/2014.

Filed Date: 1/31/14.

Accession Number: 20140131-5070.

Comments Due: 5 p.m. ET 2/12/14.

Docket Numbers: RP14-422-000.

Applicants: Texas Gas Transmission, LLC.

Description: Neg Rate Agmts Filing (AEP 33595) to be effective 2/1/2014.

Filed Date: 1/31/14.

Accession Number: 20140131-5071.

Comments Due: 5 p.m. ET 2/12/14.

Docket Numbers: RP14-423-000.

Applicants: Rockies Express Pipeline LLC.

Description: Neg Rate 2014-01-31 Conoco Phillips to be effective 2/1/2014.

Filed Date: 1/31/14.

Accession Number: 20140131-5124.

Comments Due: 5 p.m. ET 2/12/14.

Docket Numbers: RP14-424-000.

Applicants: Natural Gas Pipeline Company of America.

Description: Amendment Filing—EDF Negotiate Rate FTS to be effective 2/1/2014.

Filed Date: 1/31/14.

Accession Number: 20140131-5140.

Comments Due: 5 p.m. ET 2/12/14.

Docket Numbers: RP14-425-000.

Applicants: Gas Transmission Northwest LLC.

Description: Gas Transmission Northwest LLC Medford Lateral Annual Report.

Filed Date: 1/31/14.

Accession Number: 20140131-5163.

Comments Due: 5 p.m. ET 2/12/14.

Docket Numbers: RP14-426-000.

Applicants: Northern Natural Gas Company.

Description: 20140131 Annual PRA Fuel Rates to be effective 4/1/2014.

Filed Date: 1/31/14.

Accession Number: 20140131-5181.

Comments Due: 5 p.m. ET 2/12/14.

Docket Numbers: RP14-427-000.

Applicants: Northern Natural Gas Company.

Description: 20140131 Negotiated Rate to be effective 2/1/2014.

Filed Date: 1/31/14.

Accession Number: 20140131-5182.

Comments Due: 5 p.m. ET 2/12/14.

Docket Numbers: RP14-428-000.

Applicants: Tallgrass Interstate Gas Transmission, L.

Description: Neg Rate 2014-01-31 Cross Timbers to be effective 2/1/2014.

Filed Date: 1/31/14.

Accession Number: 20140131-5191.

Comments Due: 5 p.m. ET 2/12/14.

Docket Numbers: RP14-429-000.

Applicants: Southern Star Central Gas Pipeline, Inc.

Description: Volume No. 2—Baseline to be effective 2/10/2014.

Filed Date: 1/31/14.

Accession Number: 20140131-5231.

Comments Due: 5 p.m. ET 2/12/14.

Docket Numbers: RP14-430-000.

Applicants: Midcontinent Express Pipeline LLC.

Description: Midcontinent Express Pipeline LLC's Annual Report of Operational Purchases and Sales for 2013.

Filed Date: 1/31/14.

Accession Number: 20140131-5305.

Comments Due: 5 p.m. ET 2/12/14.

Docket Numbers: RP14-431-000.

Applicants: Gulf South Pipeline Company, LP.

Description: Cap Rel Neg Rate Agmt (JW 34690 to Q-West 41909) to be effective 1/31/2014.

Filed Date: 1/31/14.

Accession Number: 20140131-5372.

Comments Due: 5 p.m. ET 2/12/14.

Docket Numbers: RP14-432-000.

Applicants: Iroquois Gas Transmission System, L.P.

Description: 01/31/14 Negotiated Rates—United Energy Trading, LLC (RTS) 5095-22 to be effective 2/1/2014.

Filed Date: 1/31/14.

Accession Number: 20140131-5395.

Comments Due: 5 p.m. ET 2/12/14.

Docket Numbers: RP14-433-000.

Applicants: Great Lakes Gas Transmission Limited Par.

Description: Reservation Charge Credits to be effective 3/3/2014.

Filed Date: 1/31/14.

Accession Number: 20140131-5413.

Comments Due: 5 p.m. ET 2/12/14.

Docket Numbers: RP14-434-000.

Applicants: Natural Gas Pipeline Company of America.

Description: Negotiated Rate Filing—Tenaska LPS-RO 142972 to be effective 2/1/2014.

Filed Date: 1/31/14.

Accession Number: 20140131-5443.

Comments Due: 5 p.m. ET 2/12/14.

Docket Numbers: RP14-435-000.

Applicants: Cheyenne Plains Gas Pipeline Company, L.

Description: Firm Transportation Service Agreements Update to be effective 2/1/2014.

Filed Date: 1/31/14.

Accession Number: 20140131-5494.

Comments Due: 5 p.m. ET 2/12/14.

Docket Numbers: RP14-436-000.

Applicants: Trunkline Gas Company, LLC.

Description: Negotiated Rates Filing—4 to be effective 2/1/2014.

Filed Date: 1/31/14.

Accession Number: 20140131-5500.

Comments Due: 5 p.m. ET 2/12/14.

Docket Numbers: RP14-437-000.

Applicants: Wyoming Interstate Company, L.L.C.

Description: Transportation Agreements Filing (Bill Barrett) to be effective 2/1/2014.

Filed Date: 1/31/14.

Accession Number: 20140131-5505.

Comments Due: 5 p.m. ET 2/12/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1111-003.

Applicants: Total Peaking Services, L. L. C.

Description: Total Peaking—Further Compliance Filing in RP12-1111 to be effective 12/1/2012.

Filed Date: 1/31/14.

Accession Number: 20140131-5072.

Comments Due: 5 p.m. ET 2/12/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 03, 2014.
Nathaniel J. Davis, Sr.,
Deputy Secretary.

[FR Doc. 2014-02658 Filed 2-6-14; 8:45 am]

BILLING CODE 6717-01-P